DEPARTMENT OF TRANSPORTATION

Federal Aviation Administration

Intent To Rule on Application 02-14-C-00-ORD To Impose a Passenger Facility Charge at Chicago O'Hare International Airport, Chicago, IL and Use PFC Revenue at Gary/Chicago Airport, Gary, IN

AGENCY: Federal Aviation Administration (FAA), DOT.

ACTION: Notice of intent to rule on application.

SUMMARY: The FAA proposes to rule and invites public comment on the application to impose a Passenger Facility Charge (PFC) at Chicago O'Hare International Airport and use the revenue from a PFC at Gary/Chicago Airport under the provisions of the 49 U.S.C. 40117 and part 158 of the Federal Aviation Regulations (14 CFR part 158).

DATES: Comments must be received on or before August 19, 2002.

ADDRESSES: Comments on this application may be mailed or delivered in triplicate to the FAA at the following address: Federal Aviation Administration, Chicago Airports District Office, 2300 East Devon Avenue, Room 312, Des Plaines, Illinois 60018.

In addition, one copy of any comments submitted to the FAA must be mailed or delivered to Mr. Thomas R. Walker, Commissioner, of the City of Chicago Department of Aviation at the following address: Chicago O'Hare International Airport, P.O. Box 66142, Chicago, Illinois 60666.

Air carriers and foreign air carriers may submit copies of written comments previously provided to the City of Chicago Department of Aviation under section 158.23 of part 158.

FOR FURTHER INFORMATION CONTACT: Mr. Philip M. Smithmeyer, Manager, Chicago Airports District Office, 2300 East Devon Avenue, Room 312, Des Plaines, Illinois 60018, (847) 294-7335. The application may be reviewed in person at this same location.

SUPPLEMENTARY INFORMATION: The FAA proposes to rule and invites public comment on the application to impose a PFC at Chicago O'Hare International Airport and to use the revenue at Gary/Chicago Airport under the provisions of the 49 U.S.C. 40117 and part 158 of the Federal Aviation Regulations (14 CFR part 158).

On July 8, 2002, the FAA determined that the application to impose and use the revenue from a PFC submitted by City of Chicago Department of Aviation was substantially complete within the requirements of section 158.25 of part 158. The FAA will approve or disapprove the application, in whole or in part, no later than October 24, 2002.

The following is a brief overview of the application.

Level of the proposed PFC: $3.00.

Proposed charge effective date: October 1, 2016.

Proposed charge expiration date: February 1, 2017.

Total estimated PFC revenue: $2,565.000.

Brief description of proposed projects: Acquire snow removal equipment (snow broom), expand snow removal equipment building, rehabilitate runway 12/30, terminal apron expansion and loading bridge installation. Class or classes of air carriers which the public agency has requested not be required to collect PFCs: Air taxi operators.

Any person may inspect the application in person at the FAA office listed above under FOR FURTHER INFORMATION CONTACT.

In addition, any person may, upon request, inspect the application, notice and other documents germane to the application in person at the City of Chicago Department of Aviation.

Issued in Des Plaines, Illinois on July 11, 2002.
Mark McClardy,
Manager, Planning and Programming Branch Airports Division, Great Lakes Region.

[FR Doc. 02-18209 Filed 7-18-02; 8:45 am]

BILLING CODE 4910-13-M